INTERNATIONAL TRADE COMMISSION

[Investigation Nos. 731-TA-859 (Final)]

Circular Seamless Stainless Steel Hollow Products From Japan; Notice of Commission Determination not to Conduct a Portion of the Hearing in Camera

AGENCY: U.S. International Trade Commission.

ACTION: Commission determination not to close any part of the hearing to the public.

SUMMARY: The Commission has determined to deny the requests of respondents to conduct a portion of its hearing in the above-captioned reviews scheduled for July 12, 2000, in camera. See Commission rules 201.13 and 201.36(b)(4) (19 CFR §§ 201.13 and 201.36(b)(4)).

FOR FURTHER INFORMATION CONTACT: Rhonda M. Hughes, Office of General Counsel, U.S. International Trade Commission, telephone 202-205-3103, e-mail hughes@usitc.gov. Hearing-impaired individuals are advised that information on this matter may be obtained by contacting the Commission's TDD terminal on 202-205-1810.

SUPPLEMENTARY INFORMATION: The Commission's policy and practice is to conduct its hearings in public in all but the most unusual circumstances. See 19 CFR § 201.36. The Commission has determined that, in light of the nature of this investigation, it will be able to assess adequately all arguments raised by the parties without resorting to the extraordinary measure of an in camera hearing. Accordingly, the Commission has determined that the public interest would be best served by a hearing that is entirely open to the public. See 19 CFR § 201.36(c)(1).

Authority: This notice is provided pursuant to Commission Rule 201.35(b) (19 CFR 201.35(b)).

Issued: July 10, 2000.
By order of the Commission.
Donna R. Koehnke,
Secretary.

[FR Doc. 00-17776 Filed 7-12-00; 8:45 am]

BILLING CODE 7020-02-U